DEPARTMENT OF HEALTH AND HUMAN SERVICES

National Institutes of Health

Center for Scientific Review; Amended Notice of Meeting

Notice is hereby given of a change in the meeting of the Center for Scientific Review Special Emphasis Panel, Small Business: Health Informatics, June 29, 2022, 10:00 a.m. to June 29, 2022, 7:00 p.m., National Institutes of Health, 6701 Rockledge Drive, Bethesda, MD, 20892 which was published in the Federal Register on June 03, 2022, FR Doc 2022-11873, 87 FR 33799.

This notice is being amended to change the meeting date from June 29, 2022, to June 29, 2022—June 30, 2022. The meeting is closed to the public.

Dated: June 8, 2022.
David W. Freeman,
Program Analyst, Office of Federal Advisory Committee Policy.

[FR Doc. 2022-12799 Filed 6-13-22; 8:45 am]

BILLING CODE 4140-01-P